DEPARTMENT OF THE INTERIOR

Fish and Wildlife Service

[FWS-R1-ES-2018-N007]; [FXES11140100000-189-FF01E00000]

Notice of Intent To Prepare a Programmatic Environmental Impact Statement Addressing the Issuance of Incidental Take Permits for Four Wind Energy Projects in Hawai`i

AGENCY: Fish and Wildlife Service, Interior.

ACTION: Notice of intent; notice of public scoping meetings; request for comments.

SUMMARY: We, the U.S. Fish and Wildlife Service (Service), intend to prepare a draft programmatic environmental impact statement addressing the potential impacts on the human environment caused by alternatives described in habitat conservation plans (HCPs) for four similar wind energy projects. The HCPs were submitted to the Service in support of requests for incidental take permits (ITPs) under the Endangered Species Act authorizing the take of endangered species. The proposed permit actions involve a new HCP for the Pakini Nui Wind Farm on the Island of Hawai`i and major amendments to three existing HCPs addressing the Auwahi Wind and Kaheawa Wind Power II projects, both located on Maui, and the Kawailoa Wind Power project, located on O`ahu. All four wind energy facilities are already constructed and in operation. The proposed ITP and proposed ITP amendments would address take of three endangered species: The Hawaiian hoary bat, the Hawaiian goose, and the Hawaiian petrel.

DATES: The public scoping period begins with the publication of this notice in the Federal Register and will continue through July 2, 2018. The Service will consider all written comments on the scope of the analysis that are received or postmarked by this date.

Public meetings: The Service will hold three public scoping meetings, one each on the islands of Hawai`i, Maui, and O`ahu, at the following times during the scoping period:

• Hawai`i: June 18, 2018, 6 to 8 p.m.

• Maui: June 20, 2018, 6 to 8 p.m.

• O`ahu: June 21, 2018 6 to 8 p.m.

ADDRESSES: To request further information or submit written comments, please use one of the following methods. Please include “Wind Energy HCPs and PEIS Scoping” in the subject line of your request, message, or comment.

• U.S. Mail: Field Supervisor, U.S. Fish and Wildlife Service, Pacific Islands Fish and Wildlife Office, 300 Ala Moana Boulevard, Room 3-122, Honolulu, Hawai`i 96850.

• Email: HIwindPEIS@fws.gov.

• Fax: 808-792-9580, Attn: Field Supervisor.

• Internet: You may obtain copies of this notice from the Service's Pacific Islands Fish and Wildlife Office in Honolulu, Hawai`i, or on the internet at https://www.fws.gov/pacificislands/.

Public meetings: The three public scoping meetings will be held at the following locations:

• Hawai`i: Na`alehu Community Center, 95-5635 Mamalahoa Hwy., Na`alehu, Hawai`i, HI 96772.

• Maui: Malcolm Center, 1305 North Holopono Street, Suite 5, Kīhei, Maui, HI 96753

• O`ahu: Sunset Beach Recreation Center, 59-540 Kamehameha Hwy., Haleiwa, O`ahu, HI 96712

FOR FURTHER INFORMATION CONTACT: Darren LeBlanc, at 808-792-9403, or Michelle Bogardus at 808-792-9473. Persons who use a telecommunications device for the deaf (TDD) may call the Federal Relay Service (FRS) at 1-800-877-8339 during normal business hours. Also, FRS is available 24 hours a day, 7 days a week, to leave a message or question. You will receive a reply during normal business hours.

SUPPLEMENTARY INFORMATION: We, the U.S. Fish and Wildlife Service, are initiating the National Environmental Policy Act (NEPA) compliance process related to four incidental take permit (ITP) applications under section 10 of the Endangered Species Act, as amended (ESA) (16 U.S.C. 1531 et seq.). The applications are for four wind energy projects in Hawai`i. The proposed ITPs (involving one new and three amended ITPs) would authorize take of the endangered Hawaiian hoary bat (ōpe`ape`a in Hawaiian; Lasiurus cinereus semotus), the endangered Hawaiian goose (nēnē in Hawaiian; Branta sandvicensis), and the endangered Hawaiian petrel (`ua`u in Hawaiian; Pterodroma sandwichensis).

The Service provides this notice to (1) advise other Federal and State agencies, local governments, and the general public of our intent to prepare a programmatic environmental impact statement (PEIS); (2) announce the initiation of a 30-day scoping period; and (3) request information and recommendations on the scope of the issues to be included in the PEIS, including input on the appropriateness of our intent to develop a single PEIS addressing project-specific alternatives and cumulative impacts of the four separate permit decisions, instead of preparing an individual EIS for each of the proposed permit actions. The four wind energy facilities are already constructed and in operation. Therefore, the PEIS will address only effects associated with the operation of the four wind energy projects.

The PEIS will serve as the Service's documentation of compliance with NEPA. The Service believes a programmatic NEPA analysis of similar wind energy project-related permit decisions provides the following benefits: A comprehensive analysis of cumulative impacts across all projects; a reduction in duplicative efforts between projects; improved consistency in the analysis; and a more efficient and comprehensive solicitation of public input.

Background

Section 9 of the ESA prohibits “take” of fish and wildlife species listed as endangered or threatened. Under section 3 of the ESA, the term “take” means to harass, harm, pursue, hunt, shoot, wound, kill, trap, capture, or collect, or attempt to engage in any such conduct (16 U.S.C. 1532(19)). The term “harm” is further defined by regulation in title 50 of the Code of Federal Regulations as an act that actually kills or injures wildlife. Such act may include significant habitat modification or degradation where it actually kills or injures wildlife by significantly impairing essential behavioral patterns, including breeding, feeding, or sheltering (50 CFR 17.3). The term “harass” is also further defined in the regulations as an intentional or negligent act or omission that creates the likelihood of injury to wildlife by annoying it to such an extent as to significantly disrupt normal behavioral patterns, which include, but are not limited to, breeding, feeding, or sheltering (50 CFR 17.3).

Pursuant to section 10(a)(1)(B) of the ESA, the Service may authorize take of federally listed species, if such take occurs incidental to otherwise legal activities and a habitat conservation plan (HCP) has been developed under section 10(a)(2)(A) that describes: (1) The impact that will likely result from such taking; (2) the steps an applicant will take to minimize and mitigate that take to the maximum extent practicable and the funding that will be available to implement such steps; (3) alternative actions to such taking that an applicant considered and the reasons why such alternatives are not being used; and (4) other measures the Service may require as being necessary or appropriate for the purposes of the plan.

Section 10(a)(1)(B) of the ESA contains provisions for issuing ITPs to non-Federal entities for the take of endangered and threatened species, provided the following criteria are met: (1) The taking will be incidental to otherwise lawful activities; (2) an applicant will, to the maximum extent practicable, minimize and mitigate the impacts of such taking; (3) an applicant has ensured that adequate funding for the plan will be provided; (4) the taking will not appreciably reduce the likelihood of the survival and recovery of the species in the wild; and (5) the applicant will carry out any other measures we require as necessary or appropriate for the purposes of the plan. Regulations governing permits for endangered and threatened species are at 50 CFR 17.22 and 17.32, respectively. The Service's general permitting regulations, found at 50 CFR 13.1-13.29, also apply to these actions.

Proposed Action

The Service intends to prepare a PEIS to evaluate the project-specific alternatives and cumulative impacts of four ITP decisions addressing a newly proposed HCP for the Pakini Nui Wind Farm and major amendments for three existing HCPs for the Auwahi Wind, Kawailoa Wind Power, and KWP II wind energy projects. If these proposed HCPs meet permit issuance criteria, the Service would issue separate ITPs to each of the four permit applicants. The existing projects, the amount of take authorized in their original ITP, and the estimated levels of take in the proposed new or amended HCPs (See Tables 1-3) are briefly described below. The ITPs, if issued, would authorize the incidental take of listed species caused by the operation of existing land-based wind energy facilities.

Tables 1-3—Estimated Change in Authorized Take Requested for the Hawaiian Hoary Bat, the Hawaiian Petrel, and the Hawaiian Goose per Project Applicant
Project | Take currently authorized 1 2 | Change | Total ³
Table 1—Hawaiian Hoary Bat
Auwahi | 21 | +176 | 197
Kawailoa | 60 | +162 | 222
KWPII | 11 | +27 | 38
Pakini Nui | NA | +26 | 26
Total | 92 | +391 | 483
Table 2—Hawaiian Petrel 4
Auwahi | 87 | 0 | 87
Kawailoa | 0 | +7 | 7
KWPII | 43 | 0 | 43
Pakini Nui | NA | +3 | 3
Total | 130 | +10 | 140
Table 3—Hawaiian Goose 4
Auwahi | 5 | 0 | 5
Kawailoa | 0 | 0 | 0
KWPII | 30 | +14 | 44
Pakini Nui | NA | +3 | 3
Total | 35 | +17 | 52
¹ Take for the Hawaiian hoary bat was originally authorized for adults and juveniles separately.
² A clarification issued in 2014 simplified the way in which indirect take (e.g., loss of dependent juveniles) associated with the mortality of a breeding adult was accounted for and tracked. Juveniles were converted to adult equivalencies using calculations based on life-history information included in the respective original HCPs, resulting in authorized take represented as a whole number as opposed to listing adults and juveniles separately.
³ Represents the currently authorized take plus the new requested take.
⁴ Take amounts for these species are summed or combined for adults, subadults, nestlings, or eggs.

Auwahi Wind

The Auwahi Wind project began commercial operation on December 28, 2012, and is located on Ulupalakua Ranch in east Maui, Hawai`i. Auwahi Wind Energy, LLC, was originally issued an ITP from the Service and an incidental take license (ITL) from the Hawai`i Department of Land and Natural Resources Division of Forestry and Wildlife on February 24 and February 9, 2012, respectively. The Auwahi Wind project consists of eight Siemens 3.0-megawatt (MW) wind turbines, augmented with an 11-MW battery storage system. Ancillary facilities include an underground electrical collection system, an operation and maintenance facility, an approximately 9-mile 34.5-kilovolt (kV) above-ground generator-tie line, and an interconnection substation.

The original ITP and ITL, with 2014 amendments, authorized the following amounts of incidental take over the 25-year permit term: 21 Hawaiian hoary bats; 87 Hawaiian petrels; 5 Hawaiian geese; and Blackburn's sphinx moths (Manduca blackburni). The above levels of take were anticipated to result from project construction and operations, including collision with vehicles, generator tie-lines, substations, wind turbines and other project structures.

Auwahi Wind Energy, LLC, is requesting a permit amendment to address a higher than anticipated amount of take of the Hawaiian hoary bat that has occurred during the first 5 years of operation. Auwahi Wind Energy, LLC, is requesting incidental take coverage for an additional estimated 176 Hawaiian hoary bats (for a total of 197 bats) over the 25-year permit term, which expires in 2037.

Kawailoa Wind Power

The Kawailoa Wind Power project is located approximately 4 miles from Haleiwa town, on the north shore of the island of O`ahu, Hawai`i, and began commercial operations in November of 2012. Kawailoa Wind Power, LLC, was issued an ITP and an ITL on December 8, 2011, and January 6, 2012, respectively. The Kawailoa Wind Power project consists of 30 2.3-MW wind turbine generators. Ancillary facilities include an underground electrical collection system, an operation and maintenance facility, and an approximately 4.0-mile above-ground transmission line.

The original ITP and ITL authorized the following amounts of incidental take over a 20-year permit term: 60 Hawaiian hoary bats; 12 Hawaiian ducks (koloa maoli; Anas wyvilliana); 18 Hawaiian moorhen (`alae `ula; Gallinula galeata sandvicensis, also known as the Hawaiian gallinule); 18 Hawaiian coots (`alae kea; Fulica americana alai); 24 Hawaiian stilts (kukuluae`o; Himantopus mexicanus knudseni); and 15 Newell's shearwaters (`a`o; Puffinus auricularis newelli). The above levels of take were anticipated to result from project construction and operations, including collision with vehicles, generator tie-lines, substations, wind turbines, and other project structures.

Kawailoa Wind Power, LLC, is requesting a permit amendment to address a higher than anticipated amount of take of the Hawaiian hoary bat that has occurred during the first 5 years of operation. Kawailoa Wind Power, LLC, is requesting incidental take coverage for an additional estimated 162 Hawaiian hoary bats (for a total of 222 bats), over the 20-year permit term, which expires in 2031. Additionally, in 2017, Kawailoa Wind Power, LLC, documented the take of at least one Hawaiian petrel at their project site. Incidental take of this species was not authorized in their existing ITP or ITL; therefore, Kawailoa Wind Power, LLC, is requesting incidental take authorization for seven Hawaiian petrels in their permit amendment.

Kaheawa Wind Power II

The Kaheawa Wind Power II (KWP II) project is located at Kaheawa Pastures above Mā`alaea town, in the southwestern portion of the island of Maui, Hawai`i, and began commercial operations in July 2012. KWP II, LLC, was issued an ITP and an ITL in January 2012. The KWP II project consists of 14 1.5-MW wind turbine generators. Ancillary facilities include an underground electrical collection and communication system, an operation and maintenance facility, a battery energy storage system, and an overhead electrical transmission line connecting the facility substation to the County's electrical grid.

The original ITP and ITL authorized the following levels of incidental take over the 20-year permit term, which expires in 2032: 11 Hawaiian hoary bats, 30 Hawaiian geese, 8 Newell's shearwater, and 43 Hawaiian petrel. The above levels of take were anticipated to result from project construction and operations, including collisions with vehicles, generator tie-lines, substations, wind turbines and other project structures.

Kaheawa Wind Power II, LLC, is requesting a permit amendment to address a higher than anticipated amount of take of the Hawaiian hoary bat and the Hawaiian goose that has occurred during the first 6 years of operation. Kaheawa Wind Power II, LLC, is requesting incidental take authorization for an additional estimated 27 Hawaiian hoary bats (for a total of 38 bats) over the 20-year permit term. Additionally, KWP II, LLC, is also requesting incidental take authorization for an additional estimated 14 Hawaiian geese (for a total of 44 geese) over the 20-year permit term.

Pakini Nui Wind Farm

The Pakini Nui Wind Farm is operated by Tawhiri Power, LLC, and is located on Ka Lae or South Point on the island of Hawai`i, Hawai`i. The Pakini Nui Wind Farm is currently not covered by a valid ITP or ITL, and Tawhiri Power, LLC, has not previously applied for an ITP or ITL. Tawhiri Power, LLC, has submitted a draft HCP to support their requests for an ITP and an ITL. The Pakini Nui Wind Farm began operations in April 2007 and consists of 14 1.5-MW wind turbine generators. Ancillary facilities include one mile of underground connector lines, an operation and maintenance building, a substation, and an overhead electrical transmission line connecting the facility substation to the County's electrical grid. The entire project facility footprint is 79.42 acres. Tawhiri Power, LLC, is requesting incidental take authorization for an estimated 26 Hawaiian hoary bats, 3 Hawaiian petrels, and 3 Hawaiian geese over a 20-year permit term.

Covered Species

The applicants are requesting incidental take authorization for one or more of the following species: The endangered Hawaiian hoary bat; the endangered Hawaiian goose; and the endangered Hawaiian petrel. Three of the applicants were authorized to take other listed species in their original ITPs; such take authorization would remain unchanged by the currently proposed amendments.

The Hawaiian hoary bat is the only fully terrestrial, native mammal in the Hawaiian Islands and was federally listed as endangered under the ESA on October 13, 1970 (35 FR 16047). The Hawaiian hoary bat is nocturnal, solitary, and small in size and is known to collide with wind turbine structures. Take of Hawaiian hoary bats at the three currently permitted wind projects (Auwahi Wind, Kawailoa Wind Power, and KWP II) has been higher than anticipated under their original HCPs. The applicants assert that more recent project-specific bat fatality data and use of new statistical tools for estimating and predicting take of bats provides confidence that their revised estimates of total project-related take of bats are conservative and are unlikely to be exceeded over the term of these projects.

The Hawaiian goose was listed as endangered under the ESA on March 11, 1967 (32 FR 4001). The Hawaiian goose is found in a variety of habitats including scrubland, grassland, golf courses, sparsely vegetated slopes, and open lowland country. This species is also known to collide with wind turbine structures.

The Hawaiian petrel was listed as endangered under the ESA on March 11, 1967 (32 FR 4001). The Hawaiian petrel is a seabird that breeds in high-elevation volcanic terrain or in montane mesic forests. When Hawaiian petrels fly over land areas, they are vulnerable to collision with manmade structures, including wind turbines.

Draft Programmatic Environmental Impact Statement

This notice was prepared pursuant to NEPA (42 U.S.C. 4321 et seq.), and its implementing regulations (40 CFR 1506.6), and pursuant to section 10(c) of the ESA. For purposes of NEPA compliance, preparation of an EIS is required for actions that have the potential to significantly impact the human environment (40 CFR parts 1500-1508).

To determine whether a proposed Federal action would require the preparation of an EIS, the Service must consider two distinct factors: Context and intensity (40 CFR 1508.27, Service and National Marine Fisheries Service HCP Handbook 2016). Context refers to the geographic scale (local, regional, or national) of significance of short- and/or long-term effects/impacts of a proposed action. Intensity refers to the severity of the effects/impacts relative to the affected settings, including the degree to which the proposed action affects: An endangered or threatened species or designated critical habitat; public health or safety; scientific, historic or cultural resources; or other aspects of the human environment.

In determining whether the preparation of an EIS is warranted, we must also consider the 10 components of intensity, as set forth under 40 CFR 1508.27(b):

1. Impacts that may be both beneficial and adverse. A significant impact may exist even if the Federal agency believes that on balance the effect will be beneficial.

2. The degree to which the proposed action affects public health or safety.

3. Unique characteristics of the geographic area such as proximity to historic or cultural resources, park lands, prime farmlands, wetlands, wild and scenic rivers, or ecologically critical areas.

4. The degree to which the effects on the quality of the human environment are likely to be highly controversial.

5. The degree to which the potential impacts are highly uncertain or involve unique or unknown risks.

6. The degree to which the action may establish a precedent for future actions with significant effects or represents a decision in principle about a future consideration.

7. Whether the action is related to other actions with individually insignificant but cumulatively significant impacts.

8. The degree to which the action may adversely affect districts, sites, highways, structures, or objects listed in or eligible for listing in the National Register of Historic Places or may cause loss or destruction of significant scientific, cultural, or historical resources.

9. The degree to which the action may adversely affect an endangered or threatened species or its habitat that has been determined to be critical under the ESA.

10. Whether the action threatens a violation of Federal, State, or local law or requirements imposed for the protection of the environment.

The Service performed internal NEPA scoping for the four proposed ITP actions and identified the environmental issues requiring detailed analysis and also identified connected, similar, and cumulative actions. In this case, and after considering the above factors, the Service has determined that the four proposed ITP actions have the potential to significantly impact the human environment as described in the following paragraphs.

Nearly 30 percent of renewable energy generated on the islands of Hawaii, Maui, and O'ahu is sourced solely from land-based wind. Combined, the four proposed ITP actions would address 50 percent of the existing wind energy operations in the State of Hawaii. Three of the four ITP actions propose to significantly increase their authorized incidental take levels for the endangered Hawaiian hoary bat. The applicants assert that recent project-specific bat fatality data and use of new statistical tools account for unobserved fatalities in estimating and predicting take of bats. This information provides confidence that their revised estimates of total project-related take of bats are conservative (high). There is a significant amount of mathematical uncertainty built into the projected take estimate, such that permit applicants believe take levels will not be exceeded and any commensurate mitigation proposed would provide a net conservation benefit compared to the actual take impact to the species.

Cumulatively, the four proposed actions may have significant impacts to the Hawaiian hoary bat or other connected components of the human environment. The Hawaiian hoary bat is nocturnal, solitary, and small in size. These qualities have made it difficult for wildlife researchers to effectively study this species, and as a result much of the biological characteristics of the Hawaiian hoary bat are relatively unknown. The permit applicants may propose a suite of measures to mitigate for take of the Hawaiian hoary bat, including but not limited to: Habitat restoration, land acquisition, and scientific research to determine the relative size and priority needs of the Hawaiian hoary bat population. The results of this scientific research are intended to inform mitigation strategies for the Hawaiian hoary bat. Given the high level of uncertainty concerning biological impacts and mitigation efficacy, the context and intensity of potential impacts of these permit actions on the human environment are likely to be locally and regionally significant.

Examining the four proposed permit actions individually, the Service determined that each of the proposed actions is of sufficient size and complexity to warrant the preparation of an EIS; is similar to previous permit actions taken by the Service's Pacific Region that likewise required the preparation of an EIS; and may have significant effects on the human environment. On that basis and in accordance with regulations at 40 CFR 1501.4, 1507.3, and 1508.27, the Service believes preparation of an EIS is warranted to analyze the project-specific and cumulative environmental impacts associated with these four individual proposed ITP actions. We do not intend to prepare an environmental assessment for any of these four ITP actions.

Similar Actions

In accordance with regulations at 40 CFR 1508.25, an agency may analyze similar actions in the same impact statement when this is the best way to assess their combined impacts. Due to the similarities between these four wind energy projects including geography, impacts to covered species, and proposed minimization and mitigation measures, the Service believes a combined PEIS is the most efficient and comprehensive approach for considering the project-specific and cumulative impacts of these actions on the human environment. The PEIS will ensure consistency and reduce duplication in analysis across all projects, support a comprehensive look at cumulative impacts, and simplify opportunities for public input and engagement.

Request for Information

We intend to gather information necessary to determine impacts and alternatives of permit decisions, regarding the potential issuance of separate ITPs to each of the four wind energy project applicants and the implementation of their supporting HCPs. The primary purpose of the scoping process is for the public and other agencies to assist in developing the PEIS by identifying important issues and alternatives that should be considered. However, this scoping process would also be used to inform single-project EISs if we determine it is more appropriate to prepare a separate EIS for each of the proposed permit actions.

The Service is requesting data, comments, new information, and/or recommendations from the public, other governmental agencies, the scientific community, Native Hawaiian organizations or entities, industry, or other interested parties related to our development of the PEIS or individual EISs. We seek specific comments on:

1. Biological information and relevant data (e.g., range, distribution, population size, and population trends) for the Hawaiian hoary bat, Hawaiian goose, and the Hawaiian petrel;

2. Potential direct and indirect impacts on the human environment that would occur as a result of the continued operation of these wind energy facilities and the proposed increase in authorized take of the Hawaiian hoary bat, Hawaiian goose, and the Hawaiian petrel;

3. Whether a programmatic NEPA approach, as proposed, or separate NEPA evaluations for each of the four wind energy projects, is appropriate;

4. Possible alternatives to the proposed ITP actions that the Service should evaluate;

5. The presence of archaeological sites, buildings and structures, historic events, sacred and traditional areas, and other historic preservation concerns in the vicinity of any of the four wind project sites, including their mitigation areas, which are required to be considered in project planning by the National Historic Preservation Act; and

6. Other past, present, or reasonably foreseeable future activities on the islands of Oahu, Maui, and Hawaii that may contribute to the cumulative impact on the Hawaiian hoary bat, Hawaiian goose, and the Hawaiian petrel.

Once the draft PEIS (or individual EISs) and draft HCPs are prepared, there will be further opportunity for comment on the content of these documents through an additional public comment period.

Public Availability of Comments

You may submit your comments and materials by one of the methods listed above in ADDRESSES. Before including your address, phone number, email address, or other personal identifying information in your comment, you should be aware that your entire comment(s)—including your personal identifying information—may be made publicly available at any time. While you can ask us in your comment(s) to withhold your personal identifying information from public review, we cannot guarantee that we will be able to do so. Comments and materials we receive, as well as supporting documentation we use in preparing the PEIS, will be available for public inspection by appointment, during normal business hours, at the Service's Pacific Islands Fish and Wildlife Office.

Reasonable Accommodation

Persons needing reasonable accommodations to attend and participate in the public meetings should contact Darren LeBlanc or Michelle Bogardus at the Service's Pacific Islands Fish and Wildlife Office (see FOR FURTHER INFORMATION CONTACT). To allow sufficient time to process requests, please call no later than 14 days in advance of the meeting dates.

Authority

We provide this notice in accordance with the requirements of section 10 of the ESA (16 U.S.C. 1531 et seq.), and per NEPA regulations (40 CFR 1501.7, 40 CFR 1506.5 and 1508.22).

Dated: January 31, 2018.
Theresa E. Rabot,
Deputy Regional Director, Pacific Region, U.S. Fish and Wildlife Service.

[FR Doc. 2018-11821 Filed 5-31-18; 8:45 am]

BILLING CODE 4333-15-P